FEDERAL COMMUNICATIONS COMMISSION

47 CFR Part 64

[CG Docket No. 13-24 and 03-123; FCC 19-11; FRS 16659]

IP CTS Modernization and Reform; IP CTS Improvements and Program Management

AGENCY: Federal Communications Commission.

ACTION: Final rule.

SUMMARY: In this document, the Federal Communications Commission (Commission) removes paragraphs advising that compliance with rules amended in document FCC 19-11 was not required until approval was obtained from the Office of Management and Budget (OMB).

DATES: Effective Date: These rules are effective May 6, 2020.

FOR FURTHER INFORMATION CONTACT: Michael Scott, Consumer and Governmental Affairs Bureau, at (202) 418-1264, or email Michael.Scott@fcc.gov.

SUPPLEMENTARY INFORMATION: In document FCC 19-11, published at 84 FR 8457, March 8, 2019, the Commission adopted §§ 64.611(k) and 64.615(c), which advised that compliance with §§ 64.611(j)(2) and 64.615(a)(3) and (5), respectively, was not required until OMB approval was obtained. Sections 64.611(k) and 64.615(c) also each state that the Commission will publish a document in the Federal Register announcing the compliance date and revising the paragraphs. In a document, published at 85 FR 9392, February 19, 2020, the Commission announced OMB approval for §§ 64.611(j)(2) and 64.615(a)(3) and (5) and set the compliance date. The document also states it would remove §§ 64.611(k) and 64.615(c) of the Commission's rules. As the compliance date for §§ 64.611(j)(2) and 64.615(a)(3) and (5) is established, §§ 64.611(k) and 64.615(c) are no longer necessary. Accordingly, in this document the Commission removes §§ 64.611(k) and 64.615(c) from the Commission's rules.

List of Subjects in 47 CFR Part 64

Individuals with disabilities, Telecommunications, Telecommunications relay services Federal Communications Commission.

Cecilia Sigmund,
Federal Register Liaison Officer.

Final Rules

For the reasons discussed in the preamble, the Federal Communications Commission amends 47 part 64 as follows:

PART 64—MISCELLANEOUS RULES RELATING TO COMMON CARRIERS

1. The authority citation for part 64 continues to read as follows:

Authority: 47 U.S.C. 154, 201, 202, 217, 218, 220, 222, 225, 226, 227, 228, 251(a), 251(e), 254(k), 262, 403(b)(2)(B), (c), 616, 620, 1401-1473, unless otherwise noted; sec. 503, Pub. L. 115-141, 132 Stat. 348.

§ 64.611 [Amended]

2. Amend § 64.611 by removing paragraph (k).

§ 64.615 [Amended]

3. Amend § 64.615 by removing paragraph (c).

[FR Doc. 2020-08252 Filed 5-5-20; 8:45 am]

BILLING CODE 6712-01-P